ENVIRONMENTAL PROTECTION AGENCY

[OPP-2003-0291; FRL-7681-7]

Tributyltin Methacrylate and Bis(tributyltin) Oxide; Product Cancellation Order; Correction

AGENCY: Environmental Protection Agency (EPA).

ACTION: Notice; correction.

SUMMARY: EPA issued a notice in the Federal Register of March 17, 2004 (OPP-2004-0012; FRL-7346-8), announcing the cancellation of registrations for all manufacturing-use tributyltin methacrylate products used to formulate antifouling paints and one end-use tributyltin methacrylate antifouling paint registration. The notice also announced EPA's approval of amendments to terminate the use of manufacturing-use product registrations containing bis(tributyltin) oxide for formulating antifouling paints. These actions comprise the cancellation or termination of all uses of tributyltin manufacturing-use products for the formulation of antifouling paints. This notice announces amendments to the March 17, 2004 cancellation order to correct the effective date of the amendments to registrations announced in that notice.

FOR FURTHER INFORMATION CONTACT: Jill Bloom, Special Review and Reregistration Division (7508C), Office of Pesticide Programs, Environmental Protection Agency, 1200 Pennsylvania Ave., NW., Washington, DC 20460; telephone number: (703) 308-8019; e-mail address: bloom.jill@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0291. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Does this Correction Do?

The original cancellation orders for manufacturing-use products containing tributyltin methacrylate and labeled for use in formulating antifouling paints, and for the one end-use antifouling paint product containing tributyltin methacrylate, and for approval of the amendments to terminate the use of certain manufacturing-use products containing bis(tributyltin) oxide for formulating antifouling paints were published in the Federal Register on March 17, 2004; OPP-2004-0012; (FRL-7346-8). Today's notice corrects statements in Units II. and IV. of that cancellation order (on pages 12657 and 12658) to amend the effective date of cancellation consistent with the registrants' requests for use termination. The effective date of the use terminations cited in the March 17, 2004 notice was the date of publication of that notice (or March 17, 2004); the corrected effective date is April 15, 2004. The effective date of the registration cancellations where no use termination was requested remains as stated in the previous notice. The registrations affected by this correction and the effective date of the use terminations are listed in the table below.

Registrations subject to amendments to terminate the use of manufacturing-use products containing bis(tributyltin) oxide for formulating antifouling paints.

EPA Registration No. | Product Name | Effective Date of Use Terminations
5204-1 | Biomet TBTO | April 15, 2004
8898-17 | Eurotin TBTO | April 15, 2004

FR Doc. E4-557 published in the Federal Register of March 17, 2004, (69 FR 12655) (FRL-7346-8) is corrected as follows:

1. On page 12657, in the first column, the second sentence immediately following Table 2, which now reads: “The cancellations and amendments to terminate a use are effective upon the date of publication of this document.,” is corrected to read, “The cancellations are effective upon the date of publication of this document, and amendments to terminate a use are effective April 15, 2004.”

2. On page 12658, in Unit IV.2. Registrations amended to delete terminated uses (Table 2 in Unit II.), the first two sentences following the paragraph heading which now read: “The effective date of the cancellation effectuating the use terminations is the date of publication of this document. As of the date of publication of this document, Atofina and Crompton may not sell, distribute, or use the products listed in Table 2 bearing labels allowing the use which is the subject of the use termination request.,” are corrected to read: “The effective date of the use terminations is April 15, 2004. As of April 15, 2004, Atofina and Crompton may not sell, distribute, or use any product listed in Table 2 which bears a label allowing the use of the product for formulating antifouling paints.”

List of Subjects

Environmental protection, Pesticides and pests.

Dated: September 30, 2004.
Debra Edwards,
Director, Special Review and Reregistration Division, Office of Pesticide Programs.

[FR Doc. 04-23038 Filed 10-19-04; 8:45 am]

BILLING CODE 6560-50-S